DEPARTMENT OF JUSTICE

Antitrust Division

Notice Pursuant to the National, Cooperative Research and Production Act of 1993—nLine Corporation

Notice is hereby given that, on August 11, 2000, pursuant to Section 6(a) of the National Cooperative Research and Production Act of 1993, 15 U.S.C. § 4301 et seq. (“the Act”), nLine Corporation has filed written notification simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are nLine Corporation, Austin, TX; InterScience, Inc., Troy, NY; PixelVision, Inc., Beaverton, OR; and Light Age, Inc., Somerset, NJ. The nature and objectives of the venture are to conduct research on technology for advanced semiconductor device inspection. The activities of this venture will be partially funded by an award from the Advanced Technology Program, National Institute of Standards and Technology, Department of Commerce.

Constance K. Robinson,
Director of Operations, Antitrust Division.

[FR Doc. 01-13040 Filed 5-22-01; 8:45 am]

BILLING CODE 4410-11-M